DEPARTMENT OF THE INTERIOR

Bureau of Indian Affairs

Renewal of Agency Information Collection for Leases and Permits on Trust or Restricted Land; Request for Comments

AGENCY: Bureau of Indian Affairs, Interior.

ACTION: Notice of request for comments.

SUMMARY: In compliance with the Paperwork Reduction Act of 1995, the Bureau of Indian Affairs (BIA) is seeking comments on renewal of Office of Management and Budget (OMB) approval for the collection of information for leases and permits on trust and restricted land pursuant to 25 CFR part 162. The information collection is currently authorized by OMB Control Number 1076-0155, which expires August 31, 2010.

DATES: Interested persons are invited to submit comments on or before June 14, 2010.

ADDRESSES: You may submit comments on the information collection to Ben Burshia, Bureau of Indian Affairs, Division of Real Estate Services, Mail Stop 4639-MIB, 1849 C Street, NW., Washington, DC 20240; facsimile: (202) 208-7737; e-mail: Ben.Burshia@bia.gov.

FOR FURTHER INFORMATION CONTACT: Ben Burshia (202) 208-7737.

SUPPLEMENTARY INFORMATION:

I. Abstract

BIA is seeking renewal of the approval for the information collection conducted under 25 CFR 162, Leases and Permits, for the review and approval of leases and permits on land the United States holds in trust or restricted status for individual Indians and Indian tribes. This information collection allows BIA to review applications for leases and permits, modifications, and assignments and to determine:

(a) Whether or not a lease may be approved or granted;

(b) The value of each lease;

(c) The appropriate compensation to landowners; and

(d) Provisions for violations of trespass.

Approval for this collection expires August 31, 2010. There are forms associated with this collection. No third party notification or public disclosure burden is associated with this collection. There is no change to the approved burden hours for this information collection.

II. Request for Comments

The BIA requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0155.

Title: Leases and Permits, 25 CFR 162.

Brief Description of Collection: This collection of information is being renewed with substantially no change. Generally trust and restricted land may be leased by Indian land owners, with the approval of the Secretary of the Interior, except when specified by statute. Submission of this information allows BIA to review applications for obtaining, modifying and assigning leases and permits of land that the United States holds in trust or restricted status for individual Indians and Indian tribes. The information is used to determine approval of a lease, amendment, assignment, sublease, mortgage or related document. Standard forms are used for the application, modification, and assignment of leases and permits. Response is required to obtain a benefit.

Type of Review: Extension without change of a currently approved collection.

Respondents: Individual Indians and Indian tribes seeking to lease their trust or restricted land.

Number of Respondents: 14,500.

Total Number of Responses: 121,140.

Frequency of Response: One approval per lease, other collections occur fewer than once per lease, on average, upon request for modification or assignment or upon a trespass violation.

Estimated Time Per Response: Ranges from 15 minutes to 3 hours.

Estimated Total Annual Burden: 106,065 hours.

Total Annual Fees From Respondents: BIA collects fees for processing submitted documents, as set forth in section 162.241 or section 162.616. The minimum administrative fee is $10.00 and the maximum administrative fee is $500.00. The average total administrative fees collected is $250.00 of which is collected approximately 7,252 times, totaling $1,813,000.

Dated: April 6, 2010.
Alvin Foster,
Acting Chief Information Officer—Indian Affairs.

[FR Doc. 2010-8566 Filed 4-13-10; 8:45 am]

BILLING CODE 4310-W7-P